Proclamation 7671 of April 30, 2003

Loyalty Day, 2003

By the President of the United States of America

A Proclamation

To be an American is not a matter of blood or birth. Our citizens are bound by ideals that represent the hope of all mankind: that all men are created equal, endowed with unalienable rights to life, liberty, and the pursuit of happiness. On Loyalty Day, we reaffirm our allegiance to our country and resolve to uphold the vision of our Forefathers.

Our founding principles have endured, guiding our Nation toward progress and prosperity and allowing the United States to be a leader among nations of the world. Throughout our history, honorable men and women have demonstrated their loyalty to America by making remarkable sacrifices to preserve and protect these values.

Today, America's men and women in uniform are protecting our Nation, defending the peace of the world, and advancing the cause of liberty. The world has seen again the fine character of our Nation through our military as they fought to protect the innocent and liberate the oppressed in Operation Iraqi Freedom. We are honored by the service of foreign nationals in our Armed Services whose willingness to risk their lives for a country they cannot yet call their own is proof of the loyalty this country inspires. Their service and sacrifice are a testament to their love for America, and our soldiers' honor on and off the battlefield reaffirms our Nation's most deeply held beliefs: that every life counts, and that all humans have an unalienable right to live as free people.

These values must be imparted to each new generation. Our children need to know that our Nation is a force for good in the world, extending hope and freedom to others. By learning about America's history, achievements, ideas, and heroes, our young citizens will come to understand even more why freedom is worth protecting.

Last September, I announced several initiatives that will help improve students' knowledge of American history, increase their civic involvement, and deepen their love for our great country. The We the People initiative will encourage the teaching of American history and civic education by providing grants for curriculum development and training seminars. The Our Documents initiative will use the Internet to bring information about and the text of 100 of America's most important documents from the National Archives to classrooms and communities across the country. These initiatives are important, for it is only when our children have an understanding of our past that they will be able to lead the future.

This Loyalty Day, as we express allegiance to our Nation and its founding ideals, we resolve to ensure that the blessings of liberty endure and extend for generations to come.

The Congress, by Public Law 85-529, as amended, has designated May 1 of each year as “Loyalty Day,” and I ask all Americans to join me in this day of celebration and in reaffirming our allegiance to our Nation.

NOW, THEREFORE, I, GEORGE W. BUSH, President of the United States of America, do hereby proclaim May 1, 2003, as Loyalty Day. I call upon all the people of the United States to join in support of this national observance. I also call upon government officials to display the flag of the United States on all government buildings on Loyalty Day.

IN WITNESS WHEREOF, I have hereunto set my hand this thirtieth day of April, in the year of our Lord two thousand three, and of the Independence of the United States of America the two hundred and twenty-seventh.

B

[FR Doc. 03-11192

Filed 5-2-03; 8:45 am]

Billing code 3195-01-P